DEFENSE NUCLEAR FACILITIES SAFETY BOARD

Sunshine Act Meetings

FEDERAL REGISTER CITATION OF PREVIOUS ANNOUNCEMENT: The Federal Register of January 31, 2019, in FR Doc. 2019-00806, on page 678.

PREVIOUSLY ANNOUNCED TIME AND DATE OF THE MEETING: March 21, 2019, 9:00 a.m.-12:00 p.m.

CHANGES IN THE MEETING: The Defense Nuclear Facilities Safety Board is postponing this Public Business Meeting in order to allow sufficient time to arrange professional assistance with the strategic planning and employee engagement process and additionally due to the unexpected resignation of one of the Board Members. A new date and time will be announced as soon as possible.

CONTACT PERSON FOR MORE INFORMATION: Glenn Sklar, General Manager, Defense Nuclear Facilities Safety Board, 625 Indiana Avenue NW, Suite 700, Washington, DC 20004-2901, (800) 788-4016. This is a toll-free number.

Dated: March 15, 2019.
Bruce Hamilton,
Chairman.

[FR Doc. 2019-05374 Filed 3-18-19; 4:15 pm]

BILLING CODE 3670-01-P